FEDERAL COMMUNICATIONS COMMISSION

47 CFR Part 73

[DA 04-2392; MB Docket No. 04-287, RM-11044; MB Docket No. 04-288, RM-11045]

Radio Broadcasting Services; Booneville, KY and Rhinelander, WI

AGENCY: Federal Communications Commission.

ACTION: Proposed rule.

SUMMARY: This document proposes new allotments in separate communities, Booneville, Kentucky and Rhinelander, Wisconsin. The Audio Division requests comment on a petition filed by East Kentucky Educational Radio, proposing the allotment of Channel 227A at Booneville, Kentucky, as the community's first local aural transmission service. Channel 227A can be allotted to Booneville in compliance with the Commission's minimum distance separation requirements with a site restriction of 14.1 kilometers (8.8 miles) northwest of the community. The reference coordinates for Channel 227A at Booneville are 37-34-24 NL and 83-46-40 WL, 24-55-05 NL and 80-38-04 WL. The Audio Division also requests comments on a petition filed by Results Broadcasting of Rhinelander, Inc., proposing the allotment of Channel 243C3 at Rhinelander, Wisconsin, as the community's fourth local aural l transmission service. Channel 243C3 can be allotted to Rhinelander in compliance with the Commission's minimum distance separation requirements with a site restriction of 14.9 kilometers (9.3 miles) east of the community. The reference coordinates for 243C3 at Rhinelander are 45-39-43 NL and 89-13-25 WL. See SUPPLEMENTARY INFORMATION, infra.

DATES: Comments must be filed on or before September 20, 2004, and reply comments on or before October 5, 2004.

ADDRESSES: Federal Communications Commission, 445 Twelfth Street, SW., Washington, DC 20554. In addition to filing comments with the FCC, interested parties should serve each petitioner, its counsel, or consultant, as follows: East Kentucky Educational Radio, 146 Paul Drive, Hazard, Kentucky 41701; Results Broadcasting of Rhinelander, Inc., c/o Mark Blacknell, Esq., Womble, Carlyle, Sandridge & Rice, Seventh Floor, 1401 Eye Street, NW., Washington, DC 20005.

FOR FURTHER INFORMATION CONTACT: Victoria M. McCauley, Media Bureau, (202) 418-2180.

SUPPLEMENTARY INFORMATION: This is a synopsis of the Commission's Notice of Proposed Rule Making, MB Docket Nos. 04-287 and 04-288, adopted July 28, 2004 and released July 30, 2004. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact. For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Kentucky, is amended by adding Booneville, Channel 227A.

3. Section 73.202(b), the Table of FM Allotments under Wisconsin, is amended by adding Channel 243C3 at Rhinelander.

Federal Communications Commission.
John A. Karousos,
Assistant Chief, Audio Division, Media Bureau.

[FR Doc. 04-18261 Filed 8-9-04; 8:45 am]

BILLING CODE 6712-01-P